DEPARTMENT OF STATE

[Public Notice 3209]

Amendment to Culturally Significant Objects Imported for Exhibition; Determinations: “Ancient Faces: Mummy Portraits from Roman Egypt”

DEPARTMENT: United States Department of State.

ACTION: Notice.

SUMMARY: On January 7, 2000, Public Notice 3196 was published at page 1219 of the Federal Register (65 FR 1219) by the United States Department of State pursuant to Pub. L. 89-259 relating to the exhibit “Ancient Faces: Mummy Portraits from Roman Egypt.” I hereby determine that an additional work of art to be included in the exhibit and imported from abroad for the temporary exhibition without profit within the United States is of cultural significance. I also determine that the temporary exhibition of this work of art as part of the exhibit at The Metropolitan Museum of Art, New York City, from on or about February 14, to on or about May 7, 2000, is in the national interest. Public Notice of these Determinations is ordered to be published in the Federal Register.

FOR FURTHER INFORMATION CONTACT: For further information, including a list of exhibit objects, contact Carol B. Epstein, Attorney-Adviser, Office of the Legal Adviser, U. S. Department of State (telephone: 202-619-6981). The address is U.S. Department of State, SA-44, 301—4th Street, SW, Room 700, Washington, DC 20547-0001.

Dated: January 24, 2000.
William B. Bader,
Assistant Secretary For Educational and Cultural Affairs, U.S. Department of State.

[FR Doc. 00-2119 Filed 1-31-00; 8:45 am]

BILLING CODE 4710-08-P